DEPARTMENT OF HEALTH AND HUMAN SERVICES

Substance Abuse and Mental Health Services Administration

Agency Information Collection Activities: Submission for OMB Review; Comment Request

Periodically, the Substance Abuse and Mental Health Services Administration (SAMHSA) will publish a summary of information collection requests under OMB review, in compliance with the Paperwork Reduction Act (44 U.S.C. Chapter 35). To request a copy of these documents, call the SAMHSA Reports Clearance Officer on (240) 276-0361.

Project: Project: Fast Track Generic Clearance for the Collection of Qualitative Feedback on the Substance Abuse and Mental Health Services Administration (SAMHSA) Service Delivery

Executive Order 12862 directs federal agencies to provide service to the public that matches or exceeds the best service available in the private sector. As outlined in Memorandum M-11-26, the Office of Management and Budget (OMB) worked with agencies to create a Fast Track process to allow agencies to obtain timely feedback on service delivery while ensuring that the information collected is useful and minimally burdensome for the public, as required by the Paperwork Reduction Act of 1995.

This collection of information is necessary to enable SAMHSA to garner customer and stakeholder feedback in an efficient, timely manner, in accordance with our commitment to improving service delivery. The information collected from our customers and stakeholders will help ensure that users have an effective, efficient, and satisfying experience with SAMHSA's programs. This feedback will provide insights into customer or stakeholder perceptions, experiences and expectations, provide an early warning of issues with service, or focus attention on areas where communication, training or changes in operations might improve delivery of products or services.

These collections will allow for ongoing, collaborative and actionable communications between SAMHSA and its customers and stakeholders. They also allow feedback to contribute directly to the improvement of program management. Per Memorandum M-11-26, information collection requests submitted under this Fast Track Generic will be considered approved unless OMB notifies SAMHSA otherwise within five days. Type of respondent; frequency (annual, quarterly, monthly, etc.); and the affected public (individuals, public or private businesses, state or local governments, etc.).

A variety of instruments and platforms will be used to collect information from respondents. The annual burden hours requested (87,500) are based on the number of collections we expect to conduct over the requested period for this clearance.

The estimated annual hour burden is as follows:

Estimated Annual Reporting Burden
Type of collection | Number of respondents | Response per respondent | Hours per response | Total hours
In-person surveys, online surveys, telephone surveys, in-person observation/testing, interviews | 75,000 | 1 | 0.50 | 37,500
Focus groups | 10,000 | 1 | 2 | 20,000
Self-administered questionnaires, customer comment cards, interactive voice surveys | 10,000 | 1 | 0.50 | 5,000
Unspecified collection formats | 25,000 | 1 | 1 | 25,000
Totals | 120,000 |  |  | 87,500

Written comments and recommendations for the proposed information collection should be sent within 30 days of publication of this notice to www.reginfo.gov/public/do/PRAMain. Find this particular information collection by selecting “Currently under 30-day Review—Open for Public Comments” or by using the search function.

Alicia Broadus,
Public Health Advisor.

[FR Doc. 2023-01071 Filed 1-19-23; 8:45 am]

BILLING CODE 4162-20-P